DEPARTMENT OF ENERGY

Availability of Department of Energy-Quadrennial Technology Review Framing Document and Request for Public Comment

AGENCY: Department of Energy (DOE).

ACTION: Notice of availability and request for public comment.

SUMMARY: DOE has initiated a Quadrennial Technology Review (DOE-QTR) of its energy technology policies and programs. The DOE-QTR Framing Document (framing document) has been developed as a principal means of facilitating stakeholder engagement in that review process. The framing document describes the Nation's energy landscape and challenges, important research, development, and demonstration (RD&D) policy choices to be made, and summarizes the current status of energy technologies and DOE technology program goals. It is intended to serve as the common framework for stakeholder engagement through advisory committees, workshops, and expert discussion groups.

DATES: Submit written comments on or before April 15, 2011.

ADDRESSES: Electronic mail comments may be submitted to: DOE-QTRmailbox@hq.doe.gov. Please include “DOE-QTR RFI” in the subject line. Please put the full body of your comments in the text of the electronic message and as an attachment. Please include your name, title, organization, postal address, telephone number, and e-mail address in the text of the message.

Comments may also be submitted by surface mail to: Department of Energy, Office of the Under Secretary for Science (S4), 1000 Independence Ave., SW., Washington, DC 20585.

Respondents are encouraged to submit comments electronically to ensure timely receipt. The DOE-QTR framing document can be accessed at http://energy.gov/QTR.

FOR FURTHER INFORMATION CONTACT: Asa Hopkins, Office of the Under Secretary for Science at (202) 586-0505, or e-mail asa.hopkins@science.doe.gov.

SUPPLEMENTARY INFORMATION: The energy technology development and deployment programs of the Department of Energy include the Advanced Research Projects Agency-Energy (ARPA-E) and the Offices of Electricity Delivery & Energy Reliability, Energy Efficiency & Renewable Energy, Fossil Energy, and Nuclear Energy—a set of programs with an annual collected budget of about $4.3 billion. Additionally, the Department administers loan guarantees to eligible clean energy projects and provides direct loans to eligible manufacturers of advanced technology vehicles and components.

DOE is undertaking development of a DOE-Quadrennial Technology Review (QTR), a component of a government-wide Quadrennial Energy Review as recommended by the President's Council of Advisors on Science & Technology. This Administration's national energy goals are to:

• Reduce energy-related greenhouse gas emissions by 17% by 2020 and 83% by 2050, from a 2005 baseline;

• Supply 80% of America's electricity from clean energy sources by 2035; and

• Support deployment of 1 million electric vehicles (EVs) on the road by 2015.

This notice requests public comment on the following questions related to the DOE-QTR and the framing document.

A. DOE Energy Technology Mission. Is the mission statement, “[t]o facilitate the invention, refinement, and early deployment of meaningful technologies that enable options for scaling by the private sector toward national energy goals,” appropriate for energy technology development and deployment programs of the Department? By facilitate, we mean that we convene and fund various entities-the national laboratories, academia, the private sector—as well as perform the basic research that underpins invention and refinement. By invention and refinement, we mean that we work on both revolutionary and evolutionary technologies. By early deployment, we mean that we support some activities beyond first commercial demonstration. By meaningful technologies, we mean that we pursue technologies that could have a material impact when deployed. Accordingly, scale, economics, and timeliness are important criteria. By enable options, we mean that we do not pick winners and losers; the markets make those choices. By scaling by the private sector, we mean that we support commercialization as an essential part of what we do. With reference to national energy goals, we mean that we would not pursue all technologies; only those that enhance energy and national security, reduce environmental impacts, and increase U.S. competitiveness.

B. U.S. Energy Framework. DOE has identified six strategies to address our National energy goals. These strategies divide into two trios: One for transport, and one for stationary energy (heat and power). The transport strategies are: [1] Increase vehicle efficiency, [2] promote progressive electrification of the vehicle fleet, and [3] develop alternative fuels. The stationary strategies are: [4] Increase building and industrial efficiency, [5] modernize the grid, and [6] drive adoption and deployment of a clean electricity supply. Have we correctly identified and structured these six strategies?

C. Clean Energy Leadership. How can DOE activities best support leadership in clean energy innovation? In clean energy manufacturing? In clean energy deployment? How do we balance international competitiveness against international cooperation?

D. Program Definition and Management. What principles should the Department follow for allocating resources among technologies of disparate maturity and potential time to impact? How many technology options should the Department provide for the private sector, and how should the value of that diversity be weighed against timeliness, scale, and cost-effectiveness? What should the threshold be for entry of a technology into the DOE portfolio? Does every technology deserve a program? Conversely, when should we declare “mission accomplished” for a government RD&D effort, or cease efforts on a program whose costs may outweigh its benefits? How can DOE be more effective at each stage of the innovation chain? Are technology targets (e.g., cost or deployment targets) useful markers to orient and structure DOE activities?

E. Private Sector Partnership. What are the optimal roles for the private sector, government laboratories, and academia in accelerating technology innovation? How can DOE best coordinate activities between and among these types of organizations (including the wide variety of institutions within each class)? How should we gauge the effectiveness of this coordination? How can the basic-applied coupling be optimized? Are there examples in other sectors or other countries that can serve as models? Are “technology user facilities” analogous to the Department's scientific user facilities possible, or even desirable? If so, what would be the most effective model for their operation? How can the Department best gather technology market information? How can information on private sector innovation be captured without compromising competitive advantage?

F. Technology Demonstration. What are best practices in performing large-scale demonstration projects? How close to commercial viability does a demonstration have to be? What are the optimal cost sharing arrangements? How might demonstrations be coordinated with DOE financing activities? How can demonstration projects better benefit all stakeholders beyond the immediate participants? How are lessons-learned best captured and promoted, and how is intellectual property best handled? How should DOE determine the number of demonstrations needed to address technical and operation risks? How do we think about failure in the demonstration phase?

G. Non-Technical Barriers. A number of non-technical barriers—including Federal, state, and local regulations, market failures, and non-technical risks—impact the rate of deployment of energy technologies. What, if any, role should the Department have in addressing these barriers?

H. Technologies and Resources. The framing document published in association with this announcement describes each of the six strategies just mentioned in greater detail, and highlights several technologies that could contribute to success in each strategy. For each technology or set of technologies, the framing document provides a non-exclusive list of resources that we intend to draw upon as we develop the DOE-QTR. Among these resources are: The America's Energy Future reports from the National Academies of Science (http://sites.nationalacademies.org/Energy/index.htm); historical data from the Energy Information Administration (http://www.eia.gov); the European Commission on Energy's Investing in the Development of Low Carbon Technologies: Strategic Energy Technology Plan (http://ec.europa.eu/energy/technology/set_plan/set_plan_en.htm); technology-specific DOE and interagency studies and reports listed in the relevant technology sections of the framing document; and the International Institute for Applied Systems Analysis's Global Energy Assessment (http://www.iiasa.ac.at/Research/ENE/GEA/index_gea.html), when it becomes available. Other resources are listed in the framing document, associated with each technology. We welcome comment on the selection of these technologies and sources, as well as suggestions on alternate sources. We also welcome updated technology, cost, and forecast data, particularly in rapidly-developing fields.

The Department also welcomes comment on the format and tone of the framing document as well as identification of any factual errors or omissions of relevant facts and data.

Public Participation Policy

It is the policy of the Department to ensure that public participation is an integral and effective part of DOE activities, and that decisions are made with the benefit of significant public input and perspectives.

The Department recognizes the many benefits to be derived from public participation for both stakeholders and DOE. Public participation provides a means for DOE to gather a diverse collection of opinions, perspectives, and values from the broadest spectrum of the public, enabling the Department to make more informed decisions. Public participation benefits stakeholders by creating an opportunity to provide input on decisions that affect their communities and our nation. In keeping with the President's commitment to transparency in government, DOE will post online at http://energy.gov/QTR all submissions received from external parties in response to this request for comment. In addition, DOE will discuss this framing document and the submissions received from external parties with advisory committees, workshops, and expert discussion groups.

Issued in Washington, DC, on March 9, 2011.
Steven E. Koonin,
Under Secretary for Science, Department of Energy.

[FR Doc. 2011-5794 Filed 3-11-11; 8:45 am]

BILLING CODE 6450-01-P